DEPARTMENT OF THE INTERIOR

National Park Service

[NPS-WASO-NRNHL-17160; PPWOCRADI0, PCU00RP14.R50000]

National Register of Historic Places; Notification of Pending Nominations and Related Actions

Nominations for the following properties being considered for listing or related actions in the National Register were received by the National Park Service before November 7, 2014. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th floor, Washington, DC 20005; or by fax, 202-371-6447. Written or faxed comments should be submitted by December 22, 2014. Before including your address, phone number, email address, or other personal identifying information in your comment, you should be aware that your entire comment—including your personal identifying information—may be made publicly available at any time. While you can ask us in your comment to withhold your personal identifying information from public review, we cannot guarantee that we will be able to do so.

Dated: November 17, 2014.
J. Paul Loether,
Chief, National Register of Historic Places/National Historic Landmarks Program.

ILLINOIS

Cook County

Polish National Alliance Headquarters, (Ethnic (European) Historic Settlement in the city of Chicago 1860-1930 MPS), 1514-1520 W. Division St., Chicago, 14001063

Robertson, John, Jr., House, 145 W. Main St., Barrington, 14001064

Strauss, Jesse L., Estate, 110 Maple Hill Rd., Glencoe, 14001065

Du Page County

Coffeen, William and Helen, House, 306 S. Garfield, Hinsdale, 14001066

Kane County

Elgin Downtown Commercial District, Roughly bound by Division, Villa Center, Fulton & Grove, Elgin, 14001067

Whiteside County

Martin House, 707 10th Ave., Fulton, 14001068

IOWA

Lee County

Park-to-Park Residential Historic District, 400-1100 blks. of Ave. F & 400-1100 blks. of Ave. E, Fort Madison, 14001069

MARYLAND

Baltimore Independent city

Brewers Hill Historic District, Roughly bounded by Eastern Ave., S. Conkling, S. Haven & Dillon Sts., Baltimore, 14001070

MISSOURI

St. Louis Independent city

General Electric Supply Corporation Building, 2653 Locust St., St. Louis (Independent City), 14001071

NEW YORK

Rensselaer County

Marsh-Link-Pollock Farm, 66 White Church Ln., Brunswick, 14001072

OHIO

Cuyahoga County

Hubbard Cooke Block, 2206-2220 Superior Viaduct, Cleveland, 14001073

Liquid Carbonic Corporation Dry Ice Plant, 1318 W. 58th St., Cleveland, 14001074

Hamilton County

St. Aloysius-on-the-Ohio, 134 Whipple & 6207, 6214 & 6218 Portage Sts., 6206 Gracely Dr., Cincinnati, 14001075

OREGON

Multnomah County

Rutherford House, 833 NE. Shaver St., Portland, 14001076

RHODE ISLAND

Kent County

Cedar Hill, 4157 Post Rd., Warwick, 14001077

Providence County

Edgewood Historic District—Taft Estate Plat (Boundary Increase), (Edgewood Neighborhood, Cranston, R.I. MPS), E. side of Narragansett Blvd. between Windsor Rd. & Ocean Ave., Cranston, 14001078

VIRGINIA

Fairfax County

Great Falls Park Historic District, Bounded by Potomac R., Georgetown Pike & River Bend Rd., Great Falls, 14001079

WYOMING

Converse County

Dorr Ranch, Approx. 5 mi. NE. of Woody Creek & Steinle Rds., Bill, 14001080

A request for removal has been received for the following resources:

IOWA

Boone County

Boone Bridge, Old US 30 over Des Moines R., Boone, 98000761

Pottawattamie County

Hancock Savings Bank, 311 Main St., Hancock, 83000401

Scott County

Cook, Clarissa C., Library—Blue Ribbon News Building, 528 Brady St., Davenport, 83002415

Lend-A-Hand Club, 105 S. Main St., Davenport, 84001459

Petersen's, J. H. C., Sons Wholesale Building, 122-124 W. River Dr., Davenport, 83002484

Riepe Drug Store—G. Ott Block, 403 W. 2nd St., Davenport, 83002493

Schauder Hotel, 126 W. River Dr., Davenport, 83002495

Schick's Express and Transfer Co., 118-120 W. River Dr., Davenport, 83002497

Young, Col. Joseph, Block, 502 Brady St., Davenport, 83002526

Washington County

Johnson, Thomas, Polygonal Barn, (Iowa Round Barns: The Sixty Year Experiment TR), Off IA 114, Wellman, 86001451

Winneshiek County

Big Stone Mills, 113 N. Main St., Spillville, 09000516

[FR Doc. 2014-28537 Filed 12-4-14; 8:45 am]

BILLING CODE 4312-51-P